DEPARTMENT OF TRANSPORTATION

Federal Aviation Administration

Notice of Availability of the Final Environmental Assessment (Final EA) and Section 4(f) Evaluation; Notice of Alaska National Interests Lands Conservation Act (ANILCA) Section 810 Evaluation; and Notice of Public Comment Period and Schedule of the Public Informational Meeting, Final EA Public Hearing, and ANILCA Section 810 Hearing for the Proposed Airport Improvement Project for the Barter Island Airport, Kaktovik, AK

AGENCY: Federal Aviation Administration (FAA), Department of Transportation (DOT).

ACTION: Notice of availability of Final EA, notice of public informational meeting and Final EA hearing, notice of ANILCA Section 810 hearing, and notice of public comment period.

Location of the Preferred Alternative: The Preferred Alternative would relocate the airport approximately 1 mile southwest of the community of Kaktovik, on Barter Island. Barter Island is part of the North Slope Borough and is located along the Beaufort Sea Coast of Alaska north of the mainland of the Arctic National Wildlife Refuge. The City of Kaktovik (Kaktovik), an Inupiat village of approximately 300 people, is the only inhabited community on Barter Island.

SUMMARY: In accordance with the National Environmental Policy Act of 1969 (42 U.S.C. 4321 et seq.), Council on Environmental Quality regulations (40 CFR Part 1500-1508), and FAA Orders 1050.1E and 5050.4B, the FAA is issuing this notice to advise the public that the Final EA and Section 4(f) Evaluation for the Barter Island Airport Improvements has been prepared and is available for public review and comment. An ANILCA Section 810 evaluation is included in the Final EA. The purpose and need for the proposed project is also disclosed in the Final EA. Reasonable, prudent, and feasible alternatives are being considered, including the no-action alternative.

Written requests for copies of the Final EA can be submitted to the individual listed in the section titled FOR FURTHER INFORMATION CONTACT. Written comments on the Final EA should be submitted to the address listed in the section titled “Written Comments Should be Sent to”. A public hearing will be held on February 17, 2009. The public comment period will commence on January 20, 2009 and will close at 5 p.m. (ADT) on February 24, 2009.

Public Comment and Public Hearing: The public comment period on the Final EA will start on January 20, 2009 and will end at 5 p.m. (ADT) on February 24, 2009. One combined public information meeting, Final EA public hearing, and ANILCA Section 810 hearing will be held on February 17, 2009 at the Kaktovik City Hall, 2051 Barter Island Avenue, Kaktovik, AK 99747. The meeting and hearing will be from 6:00 to 8:00 pm (ADT) with a 30-minute informational presentation beginning at 6:15 pm and the public and ANILCA Section 810 hearing beginning at 7 p.m. A court reporter will be present during the hearing to formally record public comment.

Final EA Availability and Review

Copies of the Final EA, with its Section 4(f) and ANILCA Section 810 Evaluations, may be viewed during regular business hours at the following locations:

1. North Slope Borough Capital Improvement Project Office, 3000 C St., Suite 104, Anchorage, AK, 99503. Laura Strand, Project Administrator, (907) 646-8274.

2. City of Kaktovik, Mayor's Office, P.O. Box 27, 2051 Barter Avenue, Kaktovik, Alaska 99747. Elizabeth Rexford, 907-640-6313. Open: 8:30 a.m.—5 p.m. M-F.

3. North Slope Borough Village Liaison, P.O. Box 102, 4070 Hula Hula Avenue, Kaktovik, Alaska 99747. Nora Jane Burns, 907-640-6128.

4. North Slope Borough Public Works, 1689 Okpik Street, Barrow, Alaska 99723. Sophia Amling, 907-852-0271. Open: 8:30 a.m.—5 p.m. M-F.

The Final EA, Section 4(f) Evaluation, and ANILCA Section 810 Evaluation may also be viewed at the following Web site: http://www.hdlalaska.com/currentprojects.htm. The North Slope Borough has a limited number of hard-copy Final EA documents for distribution upon request. If you desire a hard-copy of the Final EA, please contact the North Slope Borough at (907) 646-8274.

Comments on the Final EA or ANILCA Section 810 Evaluation may also be presented verbally at the public hearing. Written comments may be submitted to during the public meeting and hearing and through Tuesday, February 24, 2009 at the address listed in the section titled “Written Comments Should be Sent to”.

The FAA encourages all interested parties to provide comments concerning the content of the Final EA, including the Section 4(f) and ANILCA Section 810 Evaluations. Comments should be as specific as possible and address the analysis of potential environmental impacts and the adequacy of the proposed action or merits of alternatives and the mitigation being considered. Reviewers should organize their participation so that it is meaningful and makes the agency aware of the viewer's interests and concerns by using quotations and other specific references to the text of the Final EA and related documents. Comments that could have been raised with specificity during the comment period on the Draft EA may not be considered if they are not raised until after release of the Final EA. This is to ensure that substantive comments and concerns are made available to the FAA in a timely manner so that the FAA has an opportunity to address them.

SUPPLEMENTARY INFORMATION: The FAA as lead agency has prepared the Final EA for the Proposed Action and alternatives to address recurrent flooding and subsequent storm damage to the Barter Island Airport, Kaktovik, Alaska.

North Slope Borough published the Draft EA on behalf of the FAA on March 7, 2008. The Draft EA was prepared in accordance with the National Environmental Policy Act of 1969, Council on Environmental Quality regulations (40 CFR Part 1500-1508), and FAA Orders 1050.1E and 5050.4B. The Draft EA disclosed the environmental consequences of four separate alternatives associated with the proposed improvements at the Barter Island Airport. These alternatives included:

• Reconstructing the existing airport;

• Constructing a new airport on Barter Island and relocating the existing landfill and sewage lagoon;

• Constructing a new airport on the Alaska mainland south of Barter Island; and

• Continuing to maintain and operate the current airport as is (No Action Alternative).

In preparing the Final EA, the FAA considered all comments received on the Draft EA. The FAA addressed substantive comments with supplemental analysis documented in the Final EA. This supplemental analysis includes detailed disclosure on potential project impacts to subsistence resources and uses, air quality, noise, socioeconomics, environmental justice, and Department of Transportation Section 4(f) resources.

The proposed airport improvements under the FAA's Preferred Alternative would be completed during the 2010-2012 time period and would result in non-significant impacts to wetlands, wildlife habitat, vegetation, subsistence resources, air, and noise.

Section 810 of ANILCA requires an evaluation of the effects of actions and their alternatives presented in the Final EA on subsistence resources and activities occurring on public lands in the project area. The evaluation contained in the Subsistence Appendix of the Final EA indicates that no alternatives in the EA, including the FAA's Preferred Alternative, would significantly impair subsistence resources or restrict subsistence activities. As noted above, the FAA will hold a public hearing to receive comments on potential project effects on subsistence in conjunction with the public hearing conducted for the Final EA. At the end of the public comment period on the Final EA, the FAA will address any substantive comments and issue a decision.

FOR FURTHER INFORMATION CONTACT: Leslie Grey AAL-614, Project Manager, Federal Aviation Administration, Alaskan Region, Airports Division, 222 W. 7th Avenue #14, Anchorage, AK, 99513-7504. Ms. Grey may be contacted during business hours at (907) 271-5453 (phone) and (907) 271-2851 (facsimile).

Written Comments Should be Sent to: Hattenburg Dilley and Linnell, ATTN: Barter Island EA, 3335 Arctic Boulevard, Suite 100, Anchorage, AK 99503, or submitted by e-mail to tmitchell@hdlalaska.com.

All comments must be received no later than 5 pm (ADT) on February 24, 2009.

Issued in Anchorage, Alaska on January 7, 2009.
James W. Lomen,
Deputy Division Manager, Airports Division, Alaskan Region.

[FR Doc. E9-479 Filed 1-12-09; 8:45 am]

BILLING CODE 4910-13-P